DEPARTMENT OF TRANSPORTATION

Federal Aviation Administration

14 CFR Part 39

[Docket No. 2000-NE-09-AD]

RIN 2120-AA64

Airworthiness Directives; Aviointeriors S.p.A. Series 312 Seats

AGENCY: Federal Aviation Administration (FAA), DOT.

ACTION: Notice of proposed rulemaking (NPRM).

SUMMARY: The FAA proposes to supersede an existing airworthiness directive (AD) for Aviointeriors S.p.A. (formerly ALVEN), series 312 seats. That AD currently requires initial and repetitive inspections of the seat central crossmember for cracks, and if necessary, replacing the crossmember with a new crossmember. This proposed AD would require the same actions and would add other crossmember part numbers for inspection. In addition, this proposed AD would replace the original design crossmembers with reinforced design crossmembers as optional terminating actions to the repetitive inspections. This proposed AD results from reports of 88 cracked seat central crossmembers and 60 aisle side crossmembers, to date, and from the introduction of reinforced seat crossmembers by the manufacturer. We are proposing this AD to prevent the loss of the structural integrity of the seat due to cracks in seat crossmembers.

DATES: We must receive any comments on this proposed AD by July 19, 2004.

ADDRESSES: Use one of the following addresses to submit comments on this proposed AD:

• By mail: Federal Aviation Administration (FAA), New England Region, Office of the Regional Counsel, Attention: Rules Docket No. 2004-NE-16-AD, 12 New England Executive Park, Burlington, MA 01803-5299.

• By fax: (781) 238-7055.

• By e-mail: 9-ane-adcomment@faa.gov.

You can get the service information identified in this proposed AD from Aviointeriors S.p.A., Via Appia Km. 66.4—04013 Latina, Italy; telephone: 39-0773-6891; fax: 39-0773-631546.

You may examine the AD docket, by appointment, at the FAA, New England Region, Office of the Regional Counsel, 12 New England Executive Park, Burlington, MA.

FOR FURTHER INFORMATION CONTACT: Jeffrey Lee, Aerospace Engineer, Boston Aircraft Certification Office, FAA, Engine and Propeller Directorate, 12 New England Executive Park, Burlington, MA 01803-5299; telephone: 781-238-7161; fax: 781-238-7170.

SUPPLEMENTARY INFORMATION:

Comments Invited

We invite you to submit any written relevant data, views, or arguments regarding this proposal. Send your comments to an address listed under ADDRESSES. Include “AD Docket No. 2000-NE-09-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

On August 30, 2000, the FAA issued AD 2000-18-04, Amendment 39-11889 (65 FR 58177, September 27, 2000). That AD requires initial and repetitive inspections of the seat central crossmember for cracks, and if necessary, replacing the crossmember with a new crossmember. The Ente Nazionale per l'Aviazione Civile (ENAC), which is the airworthiness authority for Italy, notified the FAA that an unsafe condition may exist on the crossmembers of Aviointeriors S.p.A. (formerly ALVEN) model 312 seats. The ENAC advises that cracks were found in three seat central crossmembers during routine maintenance.

Actions After We Issued AD 2000-18-04

After we issued AD 2000-18-04, the ENAC notified us that a total of 88 seat central crossmembers and 60 seat aisle side crossmembers on series 312 seats have been reported cracked to date. Also, after we issued that AD, Aviointeriors S.p.A. introduced optional replacement seat crossmembers that are a reinforced design.

Relevant Service Information

We have reviewed and approved the technical contents of Aviointeriors service bulletin (SB) No 312/912-01, Revision 2, dated August 1, 2000, and SB No. 312/912-02, Revision 1, dated August 1, 2000. These SBs describe the procedures for inspecting crossmembers for cracks and, if necessary, replacing the crossmember with a new crossmember. We have also reviewed and approved Aviointeriors SB No. 312/912-03, dated August 1, 2000, and SB No. 312/912-04, dated August 1, 2000. These SBs describe the procedures for replacing crossmembers with reinforced design crossmembers. The ENAC classified the inspection service bulletins as mandatory and issued AD 2000-511 and AD 2000-512, both dated November 7, 2000, in order to ensure the airworthiness of these seats in Italy.

Bilateral Agreement Information

These series 312 seats are manufactured in Italy and are approved for use on airplanes that are type certificated for operation in the United States under the provisions of § 21.617 of the Federal Aviation Regulations (14 CFR 21.617) and the applicable bilateral airworthiness agreement. In keeping with this bilateral airworthiness agreement, the ENAC has kept the FAA informed of the situation described above. We have examined the findings of the ENAC, reviewed all available information, and determined that AD action is necessary for products of this type design that are certificated for operation in the United States.

FAA's Determination and Requirements of the Proposed AD

We have evaluated all pertinent information and identified an unsafe condition that is likely to exist or develop on other products of this same type design. Therefore, we are proposing this AD, which would require initial and repetitive inspections of seat central and aisle side crossmembers for cracks, and if necessary, replacing the crossmember with a new crossmember. This proposed AD would also introduce replacing the original design crossmember with a reinforced crossmember as an optional terminating action to the repetitive inspections. The proposed AD would require that you do these actions using the service information described previously.

Costs of Compliance

There are about 1,020 Aviointeriors S.p.A. (formerly ALVEN) series 312 seats installed on airplanes of U.S. registry that would be affected by this proposed AD. We estimate that it would take about 0.5 work hours per seat to perform the proposed inspections, and about one hour per seat to perform the proposed replacement of a crossmember. The average labor rate is $65 per work hour. Required parts would cost about $650.50 per seat. Based on these figures, we estimate the total cost of one inspection and total parts replacement to U.S. operators to be $729,810.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2000-NE-09-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11889 (65 FR 58177, September 27, 2000) and by adding a new airworthiness directive, to read as follows:

Aviointeriors S.p.A. (formerly ALVEN): Docket No. 2000-NE-09-AD. Supersedes AD 2000-18-04, Amendment 39-11889.

Comments Due Date

(a) The Federal Aviation Administration (FAA) must receive comments on this airworthiness directive (AD) action by July 19, 2004.

Affected ADs

(b) This AD supersedes AD 2000-18-04.

Applicability

(c) This AD applies to Aviointeriors S.p.A. (formerly ALVEN), model 312 seats. These seats are installed in, but not limited to, Fokker Model F27 Mark 050, Mark 500, and Mark 600 airplanes.

Unsafe Condition

(d) This AD results from reports of 88 cracked seat central crossmembers, and 60 aisle side crossmembers, to date, and from the introduction of reinforced seat crossmembers by the manufacturer. The actions specified in this AD are intended to prevent the loss of the structural integrity of the seat due to cracks in the seat crossmembers.

Compliance

(e) You are responsible for having the actions required by this AD performed within the compliance times specified unless the actions have already been done.

Initial Visual Inspection

(f) Perform an initial visual inspection of the crossmember for cracks, within 12,000 hours time-in-service (TIS) or within 180 days after the effective date of this AD if the crossmember has more than 12,000 hours TIS, as follows:

(1) Inspect seat central crossmembers, part number (P/N) DM03437-1, using Section 2. Inspection Procedure of Aviointeriors Service Bulletin (SB) No. 312/912-01, Revision 2, dated August 1, 2000.

(2) Replace any cracked central crossmember with a new crossmember of the same P/N. Use Section 3. Crossmember Replacement Procedure, Steps 3.1 though 3.10 of Aviointeriors SB No. 312/912-01, Revision 2, dated August 1, 2000.

(3) Inspect seat aisle side crossmembers, P/Ns DM03435-1 and DM03435-2, and DM03437-1 (Disabled People seat application), using Section 2. Inspection Procedure of Aviointeriors SB No. 312/912-02, Revision 1, dated August 1, 2000.

(4) Replace any cracked aisle side crossmember with a new crossmember of the same P/N. Use Section 3. Crossmember Replacement Procedure, Steps 3.1 though 3.8 of Aviointeriors SB No. 312/912-02, Revision 1, dated August 1, 2000.

Repetitive Visual Inspections

(g) Perform repetitive visual inspections of crossmembers, P/N DM03437-1, DM03435-1, and DM03435-2, for cracks, within 650 hours TIS after the last inspection. Use paragraphs (f)(1) through (f)(4) of this AD to inspect and disposition crossmembers.

Optional Terminating Action

(h) As optional terminating actions to the repetitive inspections required by this AD, do the following:

(1) Replace seat central crossmembers, P/N DM03437-1, with reinforced crossmembers, P/N F11541300000. Use Section 2. Crossmember Replacement Procedure, Steps 2.1 through 2.11 of Aviointeriors SB No. 312/912-03, dated August 1, 2000.

(2) Replace seat aisle side crossmembers, P/N DM03435-1, DM03435-2, and DM03437-1 (Disabled People seat application), with reinforced crossmembers, P/N F11555400000, F11555500000, and F11541300000, respectively. Use Section 2. Crossmember Replacement Procedure, Steps 2.1 through 2.11 of Aviointeriors SB No. 312/912-04, dated August 1, 2000.

Alternative Methods of Compliance

(i) The Manager, Boston Aircraft Certification Office, has the authority to approve alternative methods of compliance for this AD if requested using the procedures found in 14 CFR 39.19.

Material Incorporated by Reference

(j) None.

Related Information

(k) Ente Nazionale per l'Aviazione Civile airworthiness directives 2000-511 and 2000-512, both dated November 7, 2000, also address the subject of this AD.

Issued in Burlington, Massachusetts, on May 14, 2004.
Francis Favara,
Acting Manager, Engine and Propeller Directorate, Aircraft Certification Service.

[FR Doc. 04-11409 Filed 5-19-04; 8:45 am]

BILLING CODE 4910-13-P